DEPARTMENT OF COMMERCE

International Trade Administration

[A-570-804]

Sparklers From the People's Republic of China: Final Results of Sunset Review and Revocation of Order

AGENCY: Import Administration, International Trade Administration, Department of Commerce

DATES: Effective Date: December 5, 2010.

SUMMARY: On November 1, 2010, the Department of Commerce (“the Department”) initiated the third sunset review of the antidumping duty order on sparklers from the People's Republic of China (“PRC”). Because the domestic interested parties did not participate in this sunset review, the Department is revoking this antidumping duty order.

FOR FURTHER INFORMATION CONTACT: Jennifer Moats, AD/CVD Operations, Import Administration, International Trade Administration, U.S. Department of Commerce, 14th Street and Constitution Avenue, NW., Washington, DC 20230; telephone: (202) 482-5047.

SUPPLEMENTARY INFORMATION: On June 18, 1991, the Department issued an antidumping duty order on sparklers from the PRC. See Antidumping Duty Order: Sparklers From the People's Republic of China, 56 FR 27946 (June 18, 1991). On December 5, 2005, the Department published its most recent continuation of the order. See Continuation of Antidumping Duty Order: Sparklers From the People's Republic of China, 70 FR 72425 (December 5, 2005). On November 1, 2010, the Department initiated the current sunset review of this order. See Initiation of Five-Year (“Sunset”) Review, 75 FR 67082 (November 1, 2010).

We did not receive a notice of intent to participate from domestic interested parties in this sunset review by the deadline date. As a result, in accordance with 19 CFR 351.218(d)(1)(iii)(A), the Department determined that no domestic interested party intends to participate in the sunset review and, on November 22, 2010, we notified the International Trade Commission, in writing, that we intend to issue a final determination revoking this antidumping duty order. See 19 CFR 351.218(d)(1)(iii)(B)(2).

Scope of the Order

The products subject to this order are fireworks each comprising a cut-to-length wire, one end of which is coated with a chemical mix that emits bright sparks while burning. Sparklers are currently classified under subheadings 3604.10.10.00, 3604.10.90.10, and 3604.10.90.50 of the Harmonized Tariff Schedule of the United States (“HTSUS”). Sparklers were formerly classified under HTSUS subcategory 3604.10.00. The Department has reviewed the current categories and has determined that sparklers are currently classified in the above subcategories. Although HTSUS subheadings are provided for convenience and customs purposes, the written description of the merchandise under the order is dispositive.

Determination To Revoke

Pursuant to section 751(c)(3)(A) of the Tariff Act of 1930, as amended (“the Act”) and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. Therefore, consistent with 19 CFR 351.222(i)(1)(i) and section 751(c)(3)(A) of the Act, we are revoking this antidumping duty order. The effective date of revocation is December 5, 2010, the fifth anniversary of the date of publication in the Federal Register of the most recent notice of continuation of this antidumping duty order. See 751(c)(6)(A)(iii) of the Act, and 19 CFR 351.222(i)(2)(i).

Effective Date of Revocation

Pursuant to sections 751(c)(3)(A) and 751(c)(6)(A)(iii) of the Act, and 19 CFR 351.222(i)(2)(i), the Department will instruct U.S. Customs and Border Protection (“CBP”) to terminate the suspension of liquidation of the merchandise subject to this order entered, or withdrawn from warehouse, on or after December 5, 2010. The Department will issue instructions to CBP 15 days after publication of this notice. Entries of subject merchandise prior to the effective date of revocation will continue to be subject to suspension of liquidation and antidumping duty deposit requirements. The Department will complete any pending administrative reviews of this order and will conduct administrative reviews of subject merchandise entered prior to the effective date of revocation in response to appropriately filed requests of review.

This five-year (sunset) review and notice are published in accordance with sections 751(c) and 777(i)(1) of the Act.

Dated: January 19, 2011.
Ronald K. Lorentzen,
Deputy Assistant Secretary for Import Administration.

[FR Doc. 2011-1940 Filed 1-27-11; 8:45 am]

BILLING CODE 3510-DS-P